DEPARTMENT OF JUSTICE

Notice of Lodging of Consent Decree Under Comprehensive Environmental Response, Compensation and Liability Act

In accordance with Departmental policy, 28 CFR 50.7, notice is hereby given that a proposed consent decree in United States v. Nassau Metals Corp., et al., C.A. No. 3:96-CV-562 (M.D. Pa.), was lodged on December 20, 2000, with the United States District Court for the Middle District of Pennsylvania. The consent decree resolves the United States' claims against the Estate of Joseph Brenner and the personal representative of the Estate with respect to past costs, pursuant to Section 107 of the Comprehensive Environmental Response, Compensation and Liability Act, 42 U.S.C. 9607, in connection with the cleanup of the C&D Recycling, Inc., Site, located in Luzerne County, Pennsylvania. Under the consent decree, the personal representative of the Estate, based upon an ability-to-pay settlement, will pay the United States $77,000 in reimbursement of past response costs within forty-five days after entry of the consent decree by the Court. The personal representative of the Estate has also agreed to sell the Site property, in cooperation with a co-owner of the property, and to pay the United States the proceeds from said sale as provided under the terms of the consent decree.

The Department of Justice will receive, for a period of thirty (30) days from the date of this publication, comments relating to the proposed consent decree. Comments should be addressed to the Assistant Attorney General for the Environment and Natural Resources Division, Department of Justice, Washington, D.C. 20530, and should refer to United States v. Nassau Metals Corp., et al., DOJ Reference No. 90-11-3-1057-A.

The proposed consent decree may be examined at the office of the United States Attorney, Suite 309, Federal Building, Washington and Linden Streets, Scanton, Pennsylvania 18501; and the Region III Office of the Environmental Protection Agency, 1650 Arch Street, Philadelphia, Pennsylvania 19103-2029. A copy of the proposed decree may be obtained by mail from the Department of Justice Consent Decree Library, P.O. Box 7611, Washington, DC 20044. In requesting a copy, please refer to the referenced case and enclose a check in the amount of $8.00 (.25 cents per page production costs), payable to the Consent Decree Library.

Robert D. Brook,
Assistant Section Chief, Environmental Enforcement Section, Environment and Natural Resources Division.

[FR Doc. 01-3268 Filed 2-7-01; 8:45 am]

BILLING CODE 4410-15-M